DEPARTMENT OF THE INTERIOR

Bureau of Land Management

[12X L5017AR LLUTC010000-L54400000-EQ0000-LVCLJ12J460; UTU-089300]

Notice of Intent To Amend the Cedar Beaver Garfield Antimony Resource Management Plan for the Cedar City Field Office, Cedar City, UT and Prepare an Associated Environmental Assessment; and Notice of Realty Action for the Proposed Sale of Public Land in Beaver County, UT

AGENCY: Bureau of Land Management, Interior.

ACTION: Notice of Intent and Notice of Realty Action.

SUMMARY: In compliance with the National Environmental Policy Act of 1969, as amended (NEPA), and the Federal Land Policy and Management Act of 1976 (FLPMA), as amended, the Bureau of Land Management (BLM) Cedar City Field Office, Cedar City, Utah, intends to prepare a Resource Management Plan (RMP) amendment with an associated Environmental Assessment (EA) and by this notice is announcing the beginning of the scoping process to solicit public comments and identify issues. One parcel of public land in Beaver County, Utah, and the associated mineral estate of no known value, is being considered for disposal by direct sale under the provisions of FLPMA Sections 203 and 209.

DATES: This notice initiates the public scoping process for the RMP amendment and associated EA and segregates the parcel from operation of the public land laws as described below. Comments on issues may be submitted in writing until October 6, 2014. The date(s) and location(s) of any scoping meetings will be announced at least 30 days in advance through local media, newspapers and the BLM Web site at: https://www.ut.blm.gov/enbb/index.php. In order to be considered in the EA, all comments must be received prior to the close of the scoping period. Additional opportunities for public participation will be provided upon publication of the EA, and publication of a subsequent Notice of Realty Action for the direct sale if a decision is made to complete the sale.

ADDRESSES: You may submit comments related to the RMP amendment and proposed sale by any of the following methods:

• Web site: https://www.ut.blm.gov/enbb/index.php

• Email: blm_ut_cc_comments@blm.gov

• Fax: 435-865-3058

• Mail: Bureau of Land Management, Cedar City Field Office, 176 East DL Sargent Drive, Cedar City, Utah 84721, ATTN: Karen McAdams-Kunze

Documents pertinent to this proposal may be examined at the Cedar City Field Office.

FOR FURTHER INFORMATION CONTACT: For further information and/or to have your name added to our mailing list, contact Karen McAdams-Kunze, telephone 435-865-3073; address Bureau of Land Management, Cedar City Field Office, 176 East DL Sargent Drive, Cedar City, Utah 84721; email kkunze@blm.gov. Persons who use a telecommunications device for the deaf (TDD) may call the Federal Information Relay Service (FIRS) at 1-800-877-8339 to leave a message or question for the above individual. The FIRS is available 24 hours a day, 7 days a week. Replies are provided during normal business hours.

SUPPLEMENTARY INFORMATION: The RMP amendment and associated EA will determine whether a parcel of surveyed public land located north of Milford, in Beaver County, Utah, is suitable for disposal by sale. The parcel comprises the subject of the RMP amendment and is described as:

Salt Lake Meridian, Utah

T. 27 S., R. 10 W.,

Sec. 7, SE1/4SW1/4SE1/4SE1/4SW1/4 and S1/2SE1/4SE1/4SE1/4SW1/4;

Sec. 18, N1/2NE1/4NE1/4NW1/4, NE1/4SE1/4NE1/4NE1/4NW1/4, and SE1/4NE1/4NW1/4NE1/4NW1/4.

Areas described aggregate 8.125 acres.

Under Section 203 of the FLPMA, as amended (43 U.S.C 1713), if a parcel of public land is found suitable for disposal, then it may be offered for sale at the appraised fair market value. Under Section 209 of the FLPMA, as amended (43 U.S.C. 1719), and regulations implementing this section at 43 CFR Part 2720, the BLM may dispose of the associated mineral estate of no known value to the proposed owner or owner of record of the surface estate for the parcel of public land.

The parcel is proposed for direct sale to the adjacent landowners, Kent and Alice Smith, to resolve unauthorized uses, including a portion of their primary residence and other structures. The parcel represents the smallest legal subdivision that would wholly encompass all improvements and the debris remaining from the Smith's former hauling and salvage operation.

In accordance with 43 CFR 2710.0-6(c)(3)(iii) and 43 CFR 2711.3-3(a), direct sale procedures are appropriate to resolve inadvertent, unauthorized occupancy of the land or to protect existing equities in the land. The sale, if completed, would protect the improvements involved and resolve the inadvertent encroachment.

Conveyance of the identified public land would be subject to valid existing rights and encumbrances of record. The lands identified for sale are considered to have no known mineral value based on a mineral potential report conducted by the BLM. The proposed sale would include both the surface interests and the mineral interest of the United States. The patent would include an appropriate indemnification clause protecting the United States from claims arising out of the patentee's use occupancy or occupations on the patented lands.

On August 20, 2014, the above-described land will be segregated from appropriation under the public land laws, including the mining laws, except the sale provisions of the FLPMA. Until completion of the sale, the BLM is no longer accepting land use applications affecting the identified public land, except applications for the amendment of previously-filed right-of-way applications or existing authorizations to increase the term of the grants in accordance with 43 CFR 2807.15 and 2886.15. The segregative effect will terminate upon issuance of a patent, publication in the Federal Register of a termination of the segregation, or August 19, 2016, unless extended by the BLM Utah State Director in accordance with 43 CFR 2711.1-2(d) prior to the termination date.

The proposed sale action would require amendment of the Cedar Beaver Garfield Antimony RMP, approved in 1986. By this notice, the BLM is complying with requirements in 43 CFR 1610.2(c) to notify the public of potential amendments to land use plans, predicated on the finding of the EA. The RMP amendment process will focus on the following preliminary planning criteria:

• The RMP amendment will focus only on determination that the specific 8.125 acre parcel meets FLPMA criteria for disposal;

• The RMP amendment will comply with NEPA, FLPMA, and other applicable laws, executive orders, regulations and policy;

• The RMP amendment will recognize valid existing rights; and

• The BLM will use a collaborative and multi-jurisdictional approach, where possible, to determine the desired future condition of the public lands.

The purpose of the public scoping process is to determine relevant issues that will influence the scope of the environmental analysis, including alternatives, and guide the process for developing the EA. At present, the BLM has identified the following preliminary issue: lands and realty management.

The BLM will utilize and coordinate the NEPA commenting process to help fulfill the public involvement process under Section 106 of the National Historic Preservation Act (16 U.S.C. 470f) as provided for in 36 CFR 800.2(d)(3). Native American Tribal consultations will be conducted in accordance with policy, and Tribal concerns will be given due consideration, including impacts on Indian trust assets. Federal, State, and local agencies, along with other stakeholders that may be interested or affected by the BLM's decision on this project are invited to participate in the scoping process and, if eligible, may request or be requested by the BLM to participate as a cooperating agency.

Before including your address, phone number, email address, or other personal identifying information in your comment, you should be aware that your entire comment—including personal identifying information—may be made publicly available at any time. While you can ask us in your comment to withhold your personal identifying information from public review, we cannot guarantee that we will be able to do so.

Authority: 40 CFR 1501.7 and 43 CFR 1610.2.

Jenna Whitlock,
Associate State Director.

[FR Doc. 2014-19730 Filed 8-19-14; 8:45 am]

BILLING CODE 4310-DQ-P